DEPARTMENT OF COMMERCE

Technology Administration

Proposed Information Collection; Comment Request; National Medal of Technology Nomination Application

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before December 20, 2005.

ADDRESSES: Direct all written comments to Diana Hynek, Departmental Paperwork Clearance Officer, Department of Commerce, Room 6625, 1401 Constitution Avenue, NW., Washington, DC 20230 or via the Internet (dHynek@doc.gov).

FOR FURTHER INFORMATION CONTACT: Requests for additional information should be directed to the attention of Mildred Porter, Director, National Medal of Technology Program, Technology Administration, 1401 Constitution Avenue, NW., Room 4817, Washington, DC 20230.

SUPPLEMENTARY INFORMATION:

I. Abstract

This information collection is critical for the Nomination Evaluation Committee to determine nomination eligibility and merit for selection of the Nation's leading technological innovators honored by the President of the United States. The National Medal of Technology Nomination Application solicits nominations that recognize an individual's or company's extraordinary leadership and innovation in technological achievement. The information is needed in order to comply with Pub. L. 96-480 and Pub. L. 105-309.

II. Method of Collection

The nomination forms and instructions are electronically posted on the National Medal of Technology Web site so interested parties can review criteria and informational requirements at their convenience. The nomination forms are available for electronic submission to the NMT office via e-mail to NMT@technology.gov.

III. Data

OMB Number: 0692-0001.

Form Number: None.

Type of Review: Regular submission.

Affected Public: Individuals or households; business or other for-profit organizations; not-for-profit institutions; and Federal Government.

Estimated Number of Respondents: 102.

Estimated Time Per Response: 25 hours.

Estimated Total Annual Respondent Burden Hours: 2,550.

Estimated Total Annual Respondent Cost Burden: None.

IV. Requests for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized and/or included in the request for OMB approval of this information collection; they will also become a matter of public record.

Dated: October 17, 2005.
Gwellnar Banks,
Management Analyst, Office of the Chief Information Officer.

[FR Doc. 05-21087 Filed 10-20-05; 8:45 am]

BILLING CODE 3510-18-P